SMALL BUSINESS ADMINISTRATION

[Disaster Declaration # 10198 and # 10199]

Florida Disaster Number FL-00009

AGENCY: Small Business Administration.

ACTION: Amendment 1.

SUMMARY: This is an amendment of the Administrative declaration of a major disaster for the State of Florida, effective 9/30/2005.

Incident: Hurricane Katrina.

Incident Period: 8/25/2005.

Effective Date: 9/30/2005.

Physical Loan Application Deadline Date: 11/29/2005.

EIDL Loan Application Deadline Date: 6/14/2006.

ADDRESSES: Submit completed loan applications to: U.S. Small Business Administration, Disaster Area Office 3, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: The notice of an Administrative declaration for the State of Florida, dated 09/14/2005, is hereby amended to include the following areas as adversely affected by the disaster.

Primary Counties: Broward, Miami-Dade.

Contiguous Counties:

Florida: Hendry, Palm Beach.

All other information in the original declaration remains unchanged.

(Catalog of Federal Domestic Assistance Numbers 59002 and 59008)
Dated: September 30, 2005.
Hector V. Barreto,
Administrator.

[FR Doc. 05-20642 Filed 10-14-05; 8:45 am]

BILLING CODE 8025-01-P